DEPARTMENT OF HOMELAND SECURITY

Federal Emergency Management Agency

[Docket ID FEMA-2015-0001]

Final Flood Hazard Determinations

AGENCY: Federal Emergency Management Agency, DHS.

ACTION: Final notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of August 17, 2015 which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Date: June 16, 2015.
Roy E. Wright,
Deputy Associate Administrator for Insurance and Mitigation, Department of Homeland Security, Federal Emergency Management Agency.

I. Non-watershed-based studies:

Community | Community map repository address
Navajo County, Arizona, and Incorporated Areas
Docket No.: FEMA-B-1347
City of Holbrook | 465 1st Avenue, Holbrook, AZ 86025.
City of Show Low | 180 North 9th Street, Show Low, AZ 85901.
Town of Pinetop-Lakeside | 1360 North Niels Hansen Lane, Lakeside, AZ 85929.
Unincorporated Areas of Navajo County | Navajo County Flood Control District, 100 East Code Talkers Drive, Holbrook, AZ 86025.
Perry County, Indiana, and Incorporated Areas
Docket No.: FEMA-B-1292
City of Cannelton | City Hall, 210 South 8th Street, Cannelton, IN 47520.
City of Tell City | Planning and Zoning, City Hall, 700 Main Street, Tell City, IN 47586.
Town of Troy | Town Hall, 330 Harrison Street, Troy, IN 47588.
Unincorporated Areas of Perry County | Perry County Courthouse, 2219 Payne Street, Tell City, IN 47586.
Wicomico County, Maryland, and Incorporated Areas
Docket No.: FEMA-B-1401
City of Fruitland | City Hall, 401 East Main Street, Fruitland, MD 21826.
City of Salisbury | City Hall, 125 North Division Street, Salisbury, MD 21801.
Town of Delmar | Town Hall, 100 South Pennsylvania Avenue, Delmar, MD 21875.
Town of Mardela Springs | Town Hall, 201 Station Street, Mardela Springs, MD 21837.
Town of Sharptown | Town Hall, 401 Main Street, Sharptown, MD 21861.
Town of Willards | Town Hall, 7360 Main Street, Willards, MD 21874.
Unincorporated Areas of Wicomico County | Wicomico County Government Office Building, 125 North Division Street, Room 201, Salisbury, MD 21801.
Sullivan County, New York (All Jurisdictions)
Docket No.: FEMA-B-1404
Town of Neversink | Neversink Town Hall, 273 Main Street, Grahamsville, NY 12740.
Beaver County, Pennsylvania (All Jurisdictions)
Docket No.: FEMA-B-1412
Borough of Ambridge | Borough Hall, 600 11th Street, Ambridge, PA 15603.
Borough of Baden | Borough Hall, 149 State Street, Baden, PA 15005.
Borough of Beaver | Borough Municipal Building, 469 Third Street, Beaver, PA 15009.
Borough of Big Beaver | Big Beaver Borough Municipal Building, 114 Forest Drive, Darlington, PA 16115.
Borough of Bridgewater | Bridgewater Borough Municipal Building, 199 Boundary Lane, Bridgewater, PA 15009.
Borough of Conway | Borough Hall, 1208 Third Avenue, Conway, PA 15027.
Borough of Darlington | Borough Hall, 604 Morris Street, Darlington, PA 16115.
Borough of East Rochester | Borough Hall, 760 Spruce Avenue, East Rochester, PA 15074.
Borough of Eastvale | Eastvale Borough Office, 510 Second Avenue, Eastvale, Beaver Falls, PA 15010.
Borough of Economy | Economy Borough Municipal Building, 2856 Conway Wallrose Road, Baden, PA 15005.
Borough of Fallston | Fallston Borough Secretary's Office, 158 Beaver Street, Fallston, PA 15066.
Borough of Freedom | Borough Municipal Complex, 901 3rd Avenue, Freedom, PA 15042.
Borough of Georgetown | Office of the Borough Secretary, 323 3rd Street, Georgetown, PA 15043.
Borough of Glasgow | Glasgow Borough President's Office, 155 Liberty Avenue, Midland, PA 15059.
Borough of Homewood | Homewood Borough Office, 102 Second Avenue, Beaver Falls, PA 15010.
Borough of Hookstown | Borough Building, 262 Main Street, Hookstown, PA 15050.
Borough of Industry | Borough Office, 1620B Midland Beaver Road, Industry, PA 15052.
Borough of Koppel | Borough Office, 3437 3rd Avenue, Koppel, PA 16136.
Borough of Midland | Borough Office, 936 Midland Avenue, Midland, PA 15059.
Borough of Monaca | Borough Office, 928 Pennsylvania Avenue, Monaca, PA 15061.
Borough of New Brighton | Borough Office, 610 3rd Avenue, New Brighton, PA 15066.
Borough of New Galilee | Borough Community Hall, 201 Washington Avenue, New Galilee, PA 16141.
Borough of Ohioville | Ohioville Borough Annex Building, 6268 Tuscarawas Road, Industry, PA 15052.
Borough of Patterson Heights | Patterson Heights Borough Hall, 600 7th Avenue, Beaver Falls, PA 15010.
Borough of Rochester | Borough Municipal Building, 350 Adams Street, Rochester, PA 15074.
Borough of Shippingport | Municipal Building, 164 State Route 3016, Shippingport, PA 15077.
Borough of South Heights | Borough Building, 4069 Jordan Street, South Heights, PA 15081.
Borough of West Mayfield | West Mayfield Borough Building, 4609 West 8th Avenue, Beaver Falls, PA 15010.
City of Aliquippa | City Hall, 581 Franklin Avenue, Aliquippa, PA 15001.
City of Beaver Falls | City Hall, 715 15th Street, Beaver Falls, PA 15010.
Township of Brighton | Brighton Township Municipal Building, 1300 Brighton Road, Beaver, PA 15009.
Township of Center | Center Township Municipal Building, 224 Center Grange Road, Aliquippa, PA 15001.
Township of Chippewa | Chippewa Township Municipal Building, 2811 Darlington Road, Beaver Falls, PA 15010.
Township of Darlington | Township Municipal Building, 3590 Darlington Road, Darlington, PA 16115.
Township of Daugherty | Daugherty Township Municipal Building, 2182 Mercer Road, New Brighton, PA 15066.
Township of Franklin | Franklin Township Hall, 897 State Route 288, Fombell, PA 16123.
Township of Greene | Greene Township Hall, 262 Pittsburgh Grade Road, Hookstown, PA 15050.
Township of Hanover | Hanover Township Hall, 2731 State Route 18, Hookstown, PA 15050.
Township of Harmony | Harmony Township Municipal Building, 2501 Woodland Road, Ambridge, PA 15003.
Township of Hopewell | Hopewell Township Municipal Building, 1700 Clark Boulevard, Aliquippa, PA 15001.
Township of Independence | Independence Township Municipal Building, 104 School Road, Aliquippa, PA 15001.
Township of Marion | Marion Township Municipal Building, 485 Hartzell School Road, Fombell, PA 16123.
Township of New Sewickley | New Sewickley Township Municipal Building, 233 Miller Road, Rochester, PA 15074.
Township of North Sewickley | North Sewickley Township Municipal Building, 893 Mercer Road, Beaver Falls, PA 15010.
Township of Patterson | Patterson Township Municipal Complex, 1600 19th Avenue, Beaver Falls, PA 15010.
Township of Potter | Potter Township Municipal Building, 206 Mowry Road, Monaca, PA 15061.
Township of Pulaski | Pulaski Township Municipal Building, 3401 Sunflower Road, New Brighton, PA 15066.
Township of Raccoon | Raccoon Township Municipal Building, 1234 State Route 18, Aliquippa, PA 15001.
Township of Rochester | Municipal Building, 1013 Elm Street, Rochester, PA 15074.
Township of South Beaver | South Beaver Township Fire Hall, 773 State Route 168, Darlington, PA 16115.
Township of Vanport | Municipal Building, 477 State Avenue, Vanport, PA 15009.
Township of White | White Township Building, 2511 13th Avenue (Clayton Road), Beaver Falls, PA 15010.

II. Watershed-based studies:

Lower Little Blue Watershed
Community | Community map repository address
Jefferson County, Nebraska, and Incorporated Areas
Docket No.: FEMA-B-1410
Village of Daykin | Village Office, 101 Whitehead Avenue, Daykin, NE 68338.
Village of Diller | Community Center, 503 Commercial Street, Diller, NE 68342.
Village of Endicott | Village Hall, 110 North Scribner Street, Endicott, NE 68350.
City of Fairbury | City Hall, 612 D Street, Fairbury, NE 68352.
Village of Harbine | Harbine Village Hall, 315 Barry Street, Jansen, NE 68377.
Village of Jansen | Village Hall, 57315 715th Road, Jansen, NE 68377.
Unincorporated Areas of Jefferson County | Planning and Zoning Department, 313 South K Street, Fairbury, NE 68352.
Village of Plymouth | Village Hall, 313 East Main Street, Plymouth, NE 68424.
Village of Reynolds | Village Hall, 125 Beech Street, Reynolds, NE 68429.
Village of Steele City | Village Hall, 113 North Ida Street, Steele City, NE 68440.

[FR Doc. 2015-17663 Filed 7-17-15; 8:45 am]

BILLING CODE 9110-12-P